DEPARTMENT OF ENERGY

Federal Energy Regulatory Commission

[Docket Nos. EL05-102-000; EL05-102-001; ER97-4166-018; ER97-4166-021; ER96-780-007; ER96-780-010; EL05-104-000; EL05-104-001]

Southern Company Services, Inc., Southern Company Energy Marketing, L.P. and Southern Company Services, Inc.; Notice of Designation of Commission Staff as Non-Decisional

October 11, 2005.

Effective October 3, 2005, Marlene Stein, of the Federal Energy Regulatory Commission (Commission), was designated as non-decisional staff in the above-captioned dockets. As non-decisional staff, Ms. Stein will not participate in an advisory capacity in deliberations on the issues pending therein. In addition, as non-decisional staff, Ms. Stein will also take no part in the Commission's review of any offer of settlement. Separated non-decisional and advisory staffs are prohibited from communicating with one another concerning the deliberations set forth above, including any pertinent settlement offer.

Magalie R. Salas,
Secretary.

[FR Doc. E5-5695 Filed 10-14-05; 8:45 am]

BILLING CODE 6717-01-P